DEPARTMENT OF TRANSPORTATION

National Highway Traffic Safety Administration

49 CFR Parts 531, 533, 535, and 537

[NHTSA-2023-0022]

RIN 2127-AM55

Corporate Average Fuel Economy Standards for Passenger Cars and Light Trucks for Model Years 2027-2032 and Fuel Efficiency Standards for Heavy-Duty Pickup Trucks and Vans for Model Years 2030-2035; Correction

AGENCY: National Highway Traffic Safety Administration (NHTSA).

ACTION: Notice of proposed rulemaking; correction.

SUMMARY: This document corrects technical errors in the proposed rule that appeared in the Federal Register on August 17, 2023, entitled “Corporate Average Fuel Economy Standards for Passenger Cars and Light Trucks for Model Years 2027-2032 and Fuel Efficiency Standards for Heavy-Duty Pickup Trucks and Vans for Model Years 2030-2035.” That document proposed new Corporate Average Fuel Economy (CAFE) standards for passenger cars and light trucks to be manufactured in model years (MYs) 2027-2032, and new fuel efficiency standards for heavy-duty pickup trucks and vans (HDPUVs) to be manufactured in MYs 2030-2035.

DATES: Comments for the proposed rule published on August 17, 2023, at 88 FR 56128, must be received on or before October 16, 2023.

FOR FURTHER INFORMATION CONTACT: Joseph Bayer, CAFE Program Division Chief, Office of Rulemaking, National Highway Traffic Safety Administration, 1200 New Jersey Avenue SE, Washington, DC 20590; email: joseph.bayer@dot.gov; phone: (202) 366-9540.

SUPPLEMENTARY INFORMATION: Prior to publication of the proposal for new CAFE standards for passenger cars and light trucks and new fuel efficiency standards for HDPUVs, NHTSA noticed several minor typographical errors that could not be corrected prior to printing. The needed corrections to the preamble replace the target function coefficient numbers in Table II-3, Table III-4, Table III-12, Table III-13, Table III-15, Table III-16, Table III-18, Table III-19, Table III-21, and Table III-22. NHTSA notes that these modifications do not change the values but simply provide additional significant figures for the coefficients. For the reader's reference, NHTSA has also made the corresponding changes to the target coefficient tables in the accompanying Technical Support Document (TSD) and Preliminary Regulatory Impact Assessment (PRIA), which are found in the docket for this rulemaking and on the agency's website. The needed correction to the proposed regulatory text clarifies that NHTSA is proposing to eliminate 5-cycle and alternative approvals for off-cycle fuel consumption incentive values (FCIVs) starting in MY 2027. This document also corrects the proposed regulatory text to clarify that multipliers for advanced, innovative, and off-cycle technologies for heavy-duty pickup trucks and vans are available through model year 2027.

I. Preamble Corrections

In proposed rule FR Doc. 2023-16515, beginning on page 56128 in the issue of August 17, 2023, make the following corrections, in the SUPPLEMENTARY INFORMATION section.

1. On page 56260, Table III-3 is corrected to read as follows:

⁴⁵⁰ The Passenger Car Function Coefficients `a',`b',`c', and `d' are defined in Draft TSD Chapter 1.2.1, Equation 1-1.

Table III-3—Passenger Car CAFE Target Function Coefficients for No-Action Alternative ⁴⁵⁰
| 2027 | 2028 | 2029 | 2030 | 2031 | 2032
a (mpg) | 66.95 | 66.95 | 66.95 | 66.95 | 66.95 | 66.95
b (mpg) | 50.09 | 50.09 | 50.09 | 50.09 | 50.09 | 50.09
c (gpm per s.f) | 0.000335 | 0.000335 | 0.000335 | 0.000335 | 0.000335 | 0.000335
d (gpm) | 0.001196 | 0.001196 | 0.001196 | 0.001196 | 0.001196 | 0.001196

2. On page 56261, Table III-4 is corrected to read as follows:

Table III-4—Light Truck CAFE Target Function Coefficients for No-Action Alternative ⁴⁵¹
| 2027 | 2028 | 2029 | 2030 | 2031 | 2032
a (mpg) | 53.73 | 53.73 | 53.73 | 53.73 | 53.73 | 53.73
b (mpg) | 32.30 | 32.30 | 32.30 | 32.30 | 32.30 | 32.30
c (gpm per s.f) | 0.000374 | 0.000374 | 0.000374 | 0.000374 | 0.000374 | 0.000374
d (gpm) | 0.003272 | 0.003272 | 0.003272 | 0.003272 | 0.003272 | 0.003272

3. On page 56266, Table III-12 is corrected to read as follows:

⁴⁵¹ The Light Truck Function Coefficients `a',`b',`c', and `d' are defined in Draft TSD Chapter 1.2.1, Equation 1-1.

⁴⁶⁷ The Passenger Car Function Coefficients `a',`b',`c', and `d' are defined in Draft TSD Chapter 1.2.1.

Table III-12—Passenger Car CAFE Target Function Coefficients for Alternative PC1LT3 ⁴⁶⁷
| 2027 | 2028 | 2029 | 2030 | 2031 | 2032
a (mpg) | 67.63 | 68.31 | 69.00 | 69.70 | 70.40 | 71.11
b (mpg) | 50.60 | 51.11 | 51.63 | 52.15 | 52.68 | 53.21
c (gpm per s.f) | 0.000332 | 0.000328 | 0.000325 | 0.000322 | 0.000319 | 0.000316
d (gpm) | 0.001184 | 0.001172 | 0.001161 | 0.001149 | 0.001138 | 0.001126

4. On page 56266, Table III-13 is corrected to read as follows:

⁴⁶⁸ The Light Truck Function Coefficients `a',`b',`c', and `d' are defined in Draft TSD Chapter 1.2.1.

Table III-13—Light Truck CAFE Target Function Coefficients for Alternative PC1LT3 ⁴⁶⁸
| 2027 | 2028 | 2029 | 2030 | 2031 | 2032
a (mpg) | 55.39 | 57.10 | 58.87 | 60.69 | 62.56 | 64.50
b (mpg) | 33.30 | 34.33 | 35.39 | 36.48 | 37.61 | 38.78
c (gpm per s.f) | 0.000363 | 0.000352 | 0.000342 | 0.000331 | 0.000321 | 0.000312
d (gpm) | 0.003173 | 0.003078 | 0.002986 | 0.002896 | 0.002809 | 0.002725

5. On page 56267, Table III-15 is corrected to read as follows:

⁴⁶⁹ The Passenger Car Function Coefficients `a',`b',`c', and `d' are defined in Draft TSD Chapter 1.2.1.

Table III-15—Passenger Car CAFE Target Function Coefficients for Alternative PC2LT4 ⁴⁶⁹
| 2027 | 2028 | 2029 | 2030 | 2031 | 2032
a (mpg) | 68.32 | 69.71 | 71.14 | 72.59 | 74.07 | 75.58
b (mpg) | 51.12 | 52.16 | 53.22 | 54.31 | 55.42 | 56.55
c (gpm per s.f) | 0.000328 | 0.000322 | 0.000315 | 0.000309 | 0.000303 | 0.000297
d (gpm) | 0.001172 | 0.001149 | 0.001126 | 0.001103 | 0.001081 | 0.001060

6. On page 56267, Table III-16 is corrected to read as follows:

⁴⁷⁰ The Light Truck Function Coefficients `a',`b',`c', and `d' are defined in Draft TSD Chapter 1.2.1.

Table III-16—Light Truck CAFE Target Function Coefficients for Alternative PC2LT4 ⁴⁷⁰
| 2027 | 2028 | 2029 | 2030 | 2031 | 2032
a (mpg) | 55.96 | 58.30 | 60.73 | 63.26 | 65.89 | 68.64
b (mpg) | 33.64 | 35.05 | 36.51 | 38.03 | 39.61 | 41.26
c (gpm per s.f) | 0.000359 | 0.000345 | 0.000331 | 0.000318 | 0.000305 | 0.000293
d (gpm) | 0.003141 | 0.003015 | 0.002894 | 0.002779 | 0.002668 | 0.002561

7. On page 56269, Table III-18 is corrected to read as follows:

⁴⁷¹ The Passenger Car Function Coefficients `a',`b',`c', and `d' are defined in Draft TSD Chapter 1.2.1.

Table III-18—Passenger Car CAFE Target Function Coefficients for Alternative PC3LT5 ⁴⁷¹
| 2027 | 2028 | 2029 | 2030 | 2031 | 2032
a (mpg) | 69.02 | 71.16 | 73.36 | 75.63 | 77.97 | 80.38
b (mpg) | 51.64 | 53.24 | 54.89 | 56.58 | 58.33 | 60.14
c (gpm per s.f) | 0.000325 | 0.000315 | 0.000306 | 0.000297 | 0.000288 | 0.000279
d (gpm) | 0.001160 | 0.001125 | 0.001092 | 0.001059 | 0.001027 | 0.000996

8. On page 56269, Table III-19 is corrected to read as follows:

⁴⁷² The Light Truck Function Coefficients `a',`b',`c', and `d' are defined in Draft TSD Chapter 1.2.1.

Table III-19—Light Truck CAFE Target Function Coefficients for Alternative PC3LT5 ⁴⁷²
| 2027 | 2028 | 2029 | 2030 | 2031 | 2032
a (mpg) | 56.55 | 59.53 | 62.66 | 65.96 | 69.43 | 73.09
b (mpg) | 34.00 | 35.79 | 37.67 | 39.65 | 41.74 | 43.94
c (gpm per s.f) | 0.000355 | 0.000338 | 0.000321 | 0.000305 | 0.000290 | 0.000275
d (gpm) | 0.003108 | 0.002953 | 0.002805 | 0.002665 | 0.002531 | 0.002405

9. On page 56270, Table III-21 is corrected to read as follows:

⁴⁷³ The Passenger Car Function Coefficients `a',`b',`c', and `d' are defined in Draft TSD Chapter 1.2.1.

Table III-21—Passenger Car CAFE Target Function Coefficients for Alternative PC6LT8 ⁴⁷³
| 2027 | 2028 | 2029 | 2030 | 2031 | 2032
a (mpg) | 71.23 | 75.77 | 80.61 | 85.75 | 91.23 | 97.05
b (mpg) | 53.29 | 56.69 | 60.31 | 64.16 | 68.26 | 72.61
c (gpm per s.f) | 0.000315 | 0.000296 | 0.000278 | 0.000262 | 0.000246 | 0.000231
d (gpm) | 0.001124 | 0.001057 | 0.000993 | 0.000934 | 0.000878 | 0.000825

10. On page 56270, Table III-22 is corrected to read as follows:

⁴⁷⁴ The Light Truck Function Coefficients `a',`b',`c', and `d' are defined in Draft TSD Chapter 1.2.1.

Table III-22—Light Truck CAFE Target Function Coefficients for Alternative PC6LT8 ⁴⁷⁴
| 2027 | 2028 | 2029 | 2030 | 2031 | 2032
a (mpg) | 58.40 | 63.48 | 69.00 | 74.99 | 81.52 | 88.60
b (mpg) | 35.11 | 38.16 | 41.48 | 45.09 | 49.01 | 53.27
c (gpm per s.f) | 0.000344 | 0.000317 | 0.000291 | 0.000268 | 0.000247 | 0.000227
d (gpm) | 0.003010 | 0.002769 | 0.002548 | 0.002344 | 0.002156 | 0.001984

II. Proposed Regulatory Language Corrections

In proposed rule FR Doc. 2023-16515, beginning on page 56128 in the issue of August 17, 2023, make the following corrections, in the Regulatory Text section.

1. On page 56385, column 1, in § 531.6, correct paragraph (b)(3) and paragraph (b)(4) introductory text to read as follows:

§ 531.6 [Corrected]

* * * * *

(b) * * *

(3) Off-cycle technologies using 5-cycle testing. Through MY 2026, a manufacturer may increase its fleet average fuel economy performance through the use of off-cycle technologies tested using the EPA's 5-cycle methodology in accordance with 40 CFR 86.1869-12(c). The fuel consumption improvement is determined in accordance with 40 CFR 600.510-12(c)(3)(ii).

(4) Off-cycle technologies using the alternative EPA-approved methodology. Through MY 2026, a manufacturer may seek to increase its fuel economy performance through use of an off-cycle technology requiring an application request made to the EPA in accordance with 40 CFR 86.1869-12(d).

* * * * *

2. On page 56387, column 1, in § 533.6, correct paragraph (c)(4) and paragraph (c)(5) introductory text to read as follows:

§ 533.6 [Corrected]

* * * * *

(c) * * *

(4) Off-cycle technologies using 5-cycle testing. Through MY 2026, a manufacturer may increase its fleet average fuel economy performance through the use of off-cycle technologies tested using the EPA's 5-cycle methodology in accordance with 40 CFR 86.1869-12(c). The fuel consumption improvement is determined in accordance with 40 CFR 600.510-12(c)(3)(ii).

(5) Off-cycle technologies using the alternative EPA-approved methodology. Through MY 2026, a manufacturer may seek to increase its fuel economy performance through use of an off-cycle technology requiring an application request made to the EPA in accordance with 40 CFR 86.1869-12(d).

* * * * *

3. On page 56388, column 3, in § 535.5, correct paragraph (a)(9) to read as follows:

§ 535.5 [Corrected]

(a) * * *

(9) Advanced, innovative and off-cycle technologies. For vehicles subject to Phase 1 standards, manufacturers may generate separate credit allowances for advanced and innovative technologies as specified in § 535.7(f)(1) and (2). For vehicles subject to Phase 2 standards, manufacturers may generate separate credits allowance for off-cycle technologies in accordance with § 535.7(f)(2). Separate credit allowances for advanced technology vehicles cannot be generated; instead, manufacturers may use the credit multipliers specified in § 535.7(f)(1)(ii) through model year 2027.

* * * * *

Issued on August 21, 2023, in Washington, DC, under authority delegated in 49 CFR 1.95.
Ann Carlson,
Acting Administrator.

[FR Doc. 2023-18310 Filed 8-24-23; 8:45 am]

BILLING CODE 4910-59-P